DEPARTMENT OF TRANSPORTATION

Federal Aviation Administration

14 CFR Part 91

[Docket No. FAA-2001-11133; Amendment No. 91-282]

RIN 2120-AH19

Certification of Aircraft and Airmen for the Operation of Light-Sport Aircraft; Correction

AGENCY: Federal Aviation Administration, DOT.

ACTION: Final rule; correction.

SUMMARY: The FAA is correcting an inadvertent error in a final regulation published in the Federal Register of Tuesday, July 27, 2004 (69 FR 44772). The regulation related to the certification of aircraft and airmen for the operation of light-sport aircraft. The correction is to the section concerning aircraft having experimental certificates: Operating limitations.

DATES: The regulation is effective September 4, 2004.

FOR FURTHER INFORMATION CONTACT: Susan Gardner, Flight Standards Service, General Aviation and Commercial Division (AFS-800), Federal Aviation Administration, 800 Independence Ave., SW., Washington, DC 20591; telephone 907-271-2034, or 202-267-8212.

SUPPLEMENTARY INFORMATION: In FR Doc. 04-16577 appearing on page 44772 in the Federal Register of Tuesday, July 27, 2004, make the following correction:

§ 91.319 [Corrected]

On page 44881, in the first column, amendment number 64, “Amend § 91.319 by redesignating paragraph (e) as paragraph (h) and adding new paragraphs (e), (f), and (g) to read as follows:” is corrected to read “Amend § 91.319 by redesignating paragraph (e) as paragraph (i) and adding new paragraphs (e), (f), (g), and (h) to read as follows:”.

Issued in Washington, DC, on August 12, 2004.
Anthony F. Fazio,
Director, Office of Rulemaking.

[FR Doc. 04-18904 Filed 8-17-04; 8:45 am]

BILLING CODE 4910-13-P